DEPARTMENT OF AGRICULTURE

Food Safety and Inspection Service

[FDMS Docket No. FSIS-2007-0006]

International Standard-Setting Activities

AGENCY: Food Safety and Inspection Service, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2006, to May 31, 2007, and June 1, 2007, to May 31, 2008, seeks comments on standards under consideration and recommendations for new standards.

ADDRESSES: Comments may be submitted by any of the following methods:

• Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, and then click on “Submit.” In the Docket ID column, select FDMS Docket Number FSIS-2007-0006 to submit or view public comments and to view supporting and related materials available electronically. After the close of the comment period, the docket can be viewed using the “Advanced Search” function in Regulations.gov.

• Mail, including floppy disks or CD-ROM's, and hand- or courier-delivered items: Send to Docket Clerk, U.S. Department of Agriculture, Food Safety and Inspection Service, 300 12th Street, SW., Room 102 Cotton Annex, Washington, DC 20250.

All submissions must include the Agency name and docket number FSIS-2007-0006. Please state that your comments refer to Codex and, if your comments relate to specific Codex committees, please identify those committees in your comments and submit a copy of your comments to the delegate from that particular committee. All comments submitted in response to this proposal will be posted to the regulations.gov Web site. The comments also will be available for public inspection in the FSIS Docket Room at the address listed above between 8:30 a.m. and 4:30 p.m., Monday through Friday. The comments also will be posted on the Agency's Web site at http://www.fsis.usda.gov/regulations_&_policies/2007_Notices_Index/index.asp.

FOR FURTHER INFORMATION CONTACT: F. Edward Scarbrough, PhD, United States Manager for Codex, U.S. Department of Agriculture, Office of the Under Secretary for Food Safety, Room 4861, South Agriculture Building, 1400 Independence Avenue, SW., Washington, DC 20250-3700; (202) 205-7760. For information pertaining to particular committees, the delegate of that committee may be contacted. (A complete list of U.S. delegates and alternate delegates can be found in Attachment 2 to this notice.) Documents pertaining to Codex are accessible via the World Wide Web at the following address: http://www.codexalimentarius.net/current.asp. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of SPS standard-setting activities of each international standard-setting organization. The Secretary of Agriculture has delegated to the Administrator, Food Safety and Inspection Service (FSIS), the responsibility to inform the public of the SPS standard-setting activities of Codex. The FSIS Administrator has, in turn, assigned the responsibility for informing the public of the SPS standard-setting activities of Codex to the U.S. Codex Office, FSIS.

Codex was created in 1962 by two U.N. organizations, the Food and Agriculture Organization (FAO) and the World Health Organization (WHO). Codex is the principal international organization for encouraging fair international trade in food and protecting the health and economic interests of consumers. Through adoption of food standards, codes of practice, and other guidelines developed by its committees and by promoting their adoption and implementation by governments, Codex seeks to protect the health of consumers, ensure fair trade practices in the food trade, and promote coordination of food standards work undertaken by international governmental and non-governmental organizations. In the United States, the United States Department of Agriculture (USDA); the Food and Drug Administration (FDA), Department of Health and Human Services (HHS); and the Environmental Protection Agency (EPA) manage and carry out U.S. Codex activities.

As the agency responsible for informing the public of the SPS standard-setting activities of Codex, FSIS publishes this notice in the Federal Register annually. Attachment 1 (Sanitary and Phytosanitary Activities of Codex) sets forth the following information:

1. the SPS standards under consideration or planned for consideration; and

2. for each SPS standard specified:

a. a description of the consideration or planned consideration of the standard;

b. whether the United States is participating or plans to participate in the consideration of the standard;

c. the agenda for United States participation, if any; and

d. the agency responsible for representing the United States with respect to the standard.

To obtain copies of those standards listed in Attachment 1 that are under consideration by Codex, please contact the Codex delegate or the U.S. Codex Office. This notice also solicits public comment on those standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. Please visit the web page or notify the appropriate U.S. delegate or the Office of U.S. Codex Alimentarius, Room 4861, South Agriculture Building, 1400 Independence Avenue, SW., Washington, DC 20250-3700, if you would like to access or receive information about specific committees.

The information provided in Attachment 1 describes the status of Codex standard-setting activities by the Codex Committees for the time periods from June 1, 2006, to May 31, 2007, and June 1, 2007, to May 31, 2008. Attachment 2 provides the list of U.S. Codex Officials (includes U.S. delegates and alternate delegates). A list of forthcoming Codex sessions may be found at: http://www.codexalimentarius.net/web/current.jsp?lang=en.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/2007_Notices_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on: May 23, 2007.
F. Edward Scarbrough,
United States Manager for Codex.

Attachment 1

Sanitary and Phytosanitary Activities of Codex Alimentarius Commission and Executive Committee

The Codex Alimentarius Commission will hold its Thirtieth Session July 2-7, 2007, in Rome, Italy. At that time, it will consider procedural matters, and the standards, codes of practice, and related matters brought to its attention by the general subject committees, commodity committees, ad hoc Task Forces and member delegations. It will also consider options to implement recommendations from the review of Codex committee structure and mandates of Codex committees and task forces, as well as budgetary and strategic planning issues. At this Session, the Commission will elect a Chair and three Vice Chairs.

Prior to the Commission meeting, the Executive Committee will have met at its Fifty-ninth Session on June 26-30, 2007. It is composed of the chairperson, vice-chairpersons, and seven members elected from the Commission, one from each of the following geographic regions: Africa, Asia, Europe, Latin America and the Caribbean, Near East, North America, and South-West Pacific. Additionally, regional coordinators from the six regional committees serve as members of the Executive Committee. It will consider the Codex Strategic Plan 2008-1013; review the Codex committee structure and mandate of Codex committees and task forces; review matters arising from reports of Codex Committees, proposals for new work, and standards management issues; and review the Trust Fund for the Participation of Developing Countries and Countries in Transition in the Work of the Codex Alimentarius.

Responsible Agency: USDA/FSIS.

U.S. Participation: Yes.

Codex Committee on Residues of Veterinary Drugs in Foods

The Codex Committee on Residues of Veterinary Drugs in Foods determines priorities for the consideration of residues of veterinary drugs in foods and recommends Maximum Residue Limits (MRLs) for veterinary drugs. A veterinary drug is defined as any substance applied or administered to a food producing animal, such as meat or dairy animals, poultry, fish or bees, for therapeutic, prophylactic or diagnostic purposes or for modification of physiological functions or behavior.

A Codex Maximum Limit for Veterinary Drugs (MRLVD) is the maximum concentration of residue resulting from the use of a veterinary drug (expressed in mg/kg or ug/kg on a fresh weight basis) that is adopted by the Codex Alimentarius Commission to be permitted or recognized as acceptable in or on a food. An MRLVD is based on the Acceptable Daily Intake (ADI) and indicates the amount of residue in food that is considered to be without appreciable toxicological hazard. An MRLVD also takes into account other relevant public health risks as well as food technological aspects.

When establishing an MRLVD, consideration is also given to residues that occur in food of plant origin and/or the environment. Furthermore, the MRLVD may be reduced to be consistent with good practices in the use of veterinary drugs and to the extent that practical analytical methods are available.

Acceptable Daily Intake (ADI): An estimate by the Joint FAO/WHO Expert Committee on Food Additives (JECFA) of the amount of a veterinary drug, expressed on a body weight basis, that can be ingested daily over a lifetime without appreciable health risk (standard man = 60 kg).

The Committee will meet in the United States on September 3-7, 2007. The Committee will continue work on the following:

The Committee worked on:

• Draft MRLs for Flumequine, Melengestrol acetate, Colistin, Ractopamine, Erithromycin, Triclabendazole.

• Proposed Draft Guidelines for the Design and Implementation of National Regulatory Food Safety Assurance Programmes Associated with the Use of Veterinary Drugs in Food Producing Animals.

• Risk Analysis Principles Applied by the Codex Committee on Residues of Veterinary Drugs in Foods.

• Risk Assessment Policy for the Setting of MRLs in Food.

• Priority List of Veterinary Drugs Requiring Evaluation or Reevaluation.

• Compendium of Methods of Analysis Identified as Suitable to Support Codex MRLs.

• Discussion Paper on Risk Management Topics and Options for the CCRVDF.

• Report of the Working Group on Residues of Veterinary Drugs without ADI/MRL.

Responsible Agencies: HHS/FDA; USDA/FSIS.

U.S. Participation: Yes.

Codex Committee on Contaminants in Foods

The Codex Committee on Contaminants in Foods (CCCF) was established by the 29th Session of the Commission when it decided to split the former Codex Committee on Additives and Contaminants into two committees. The CCCF establishes or endorses permitted maximum levels for contaminants and naturally occurring toxicants in food and feed, prepares priority lists of contaminants and naturally occurring toxicants for risk assessment by the Joint FAO/WHO Expert Committee on Food Additives (JECFA), considers methods of analysis and sampling for the determination of contaminants and naturally occurring toxicants in food and feed, considers and elaborates standards or codes of practice for related subjects, and considers other matters assigned to it by the Commission in relation to contaminants and naturally occurring toxicants in food and feed. The Committee held its first session in Beijing, China, on April 16-20, 2007. The relevant document is ALINORM 07/30/41. The following items will be considered by the 30th Session of the Commission on July 2-7, 2007.

To be considered at Step 8:

• Proposed Draft Maximum Levels for Tin in Canned Foods (other than beverages) and in Canned Beverages.

To be considered at Step 5/8:

• Proposed Draft Code of Practice for the Prevention and Control of Ochratoxin A Contamination in Wine.

To be considered at Step 5:

• Proposed Draft Maximum Level for 3-MCPD in Liquid Condiments Containing Acid-HVP (excluding naturally fermented soya sauce).

• Proposed Draft Code of Practice for the Reduction of Chloropropanols During the Production of Acid-Hydrolysed Vegetable Proteins (HVPs) and Products That Contain Acid-HVPs.

To be considered for New Work:

• Elaboration of a Code of Practice on the Prevention and Reduction of Aflatoxin Contamination in Dried Figs.

The Committee is continuing to work on:

• Consideration of the Codex General Standard for Contaminants and Toxins in Foods.

• Proposed Draft Levels for Total Aflatoxins in Almonds, Hazelnuts and Pistachios “For further processing” and “Ready-to-eat”.

• Proposed Draft Sampling Plan for Aflatoxin Contamination in Almonds, Brazil Nuts, Hazelnuts and Pistachios.

• Discussion Paper on Maximum Levels for Total Aflatoxins in “Ready-to-eat” Almonds, Hazelnuts and Pistachios.

• Discussion Paper on Aflatoxin Contamination in Brazil Nuts.

• Discussion Paper on Ochratoxin A in Coffee.

• Discussion Paper on Ochratoxin A in Cocoa.

• Proposed Draft Code of Practice for the Reduction of Acrylamide in Food.

• Proposed Draft Code of Practice for the Reduction of Contamination of Foods with PAH from Smoking and Direct Drying.

General Issues:

• Priority List of Contaminants and Naturally Occurring Toxicants Proposed for Evaluation by JECFA.

Responsible Agencies: HHS/FDA; USDA/FSIS.

U.S. Participation: Yes.

Codex Committee on Food Additives

The Codex Committee on Food Additives was re-established by the 29th Session of the Commission, which split the former Codex Committee on Additives and Contaminants into two committees. The Committee is to establish or endorse permitted maximum levels for individual food additives, prepare a priority list of food additives for risk assessment by JECFA, assign functional classes to individual food additives, recommend specifications of identity and purity for food additives for adoption by the Commission, consider methods of analysis for the determination of additives in food, and to consider and elaborate standard codes for related subjects such as the labeling of food additives when sold as such. The Committee met in Beijing, China, on April 24-28, 2007. The relevant document is ALINORM 7/30/12. The following items will be considered by the 30th Session of the Commission in July 2007.

The Committee worked on:

• Revision to the Procedural Manual: Terms of Reference.

• Revision to the Procedural Manual: Risk Analysis Principles Applied by the Codex Committee on Food Additives and Contaminants.

• Revision to the Procedural Manual: Format for Codex Commodity Standards.

• Revision to the Procedural Manual: Relations between Commodity Committees and General Committees: Food Additives.

• Endorsement and/or Revision of Maximum Levels for Food Additives and Processing Aids in Codex Standards.

• Inclusion of Food Additive Provisions of Commodity Standards into the Codex General Standard for Food Additives.

• General Standard for Food Additives: Draft Food Additive Provisions (in Tables 1, 2 and 3).

• Revisions to the General Standard for Food Additives' Food Category System: Project Document.

• Guidelines for the Use of Flavourings.

• Inventory of Processing Aids.

• International Numbering System and Harmonization of Terms Used by Codex and JECFA.

• Revision of the Class Names and International Numbering System for Food Additives.

• Specifications for the Identity and Purity of Food Additives.

• Priority List of Food Additives Proposed for Evaluation by JECFA.

Responsible Agency: HHS/FDA.

U.S. Participation: Yes.

Codex Committee on Pesticide Residues

The Codex Committee on Pesticide Residues recommends to the Codex Alimentarius Commission establishment of maximum limits for pesticide residues for specific food items or in groups of food. A Codex Maximum Residue Limit for Pesticide (MRLP) is the maximum concentration of a pesticide residue (expressed as mg/kg), recommended by the Codex Alimentarius Commission to be legally permitted in or on food commodities and animal feeds. Foods derived from commodities that comply with the respective MRLPs are intended to be toxicologically acceptable, that is, consideration of the various dietary residue intake estimates and determinations both at the national and international level in comparison with the ADI*, should indicate that foods complying with Codex MRLPs are safe for human consumption.

Codex MRLPs are primarily intended to apply in international trade and are derived from reviews conducted by the Joint Meeting on Pesticide Residues (JMPR).

(a) Review of residue data from supervised trials and supervised uses including those reflecting national good agricultural practices (GAP). Data from supervised trials conducted at the highest nationally recommended, authorized, or registered uses are included in the review. In order to accommodate variations in national pest control requirements, Codex MRLPs take into account the higher levels shown to arise in such supervised trials, which are considered to represent effective pest control practices.

(b) Toxicological assessments of the pesticide and its residue.

The following items will be considered by the Commission at its 30th Session in July 2007. The relevant document is ALINORM 07/30/24.

To be considered at Step 8:

• Draft and Draft Revised Maximum Residue Limits.

To be considered at Step ⅝:

• Proposed Draft Maximum Residue Limits.

To be considered at Step 5:

• Proposed Draft and Proposed Draft Revised Maximum Residue Limits.

To be considered for Revocation:

• Codex CLX-Ds.

To be considered for New Work:

• Priority List of Pesticides for review by JMPR.

The committee is continuing work on:

• Draft and Proposed Draft MRLs.

• Revision of the List of Recommended Methods on Analysis for Pesticide Residues.

• Revision of the Codex Priority List of Pesticides for review by JMPR.

• Discussion paper on the how Codex MRLs are used at the national level.

• Discussion paper on the establishment of MRLs for Processed or Ready-to-Eat Foods.

• Extended Revision of the Codex Classification of foods and animal feeds.

*Acceptable Daily Intake (ADI) of a chemical is the daily intake which, during an entire lifetime, appears to be without appreciable risk to the health of the consumer on the basis of all the known facts at the time of the evaluation of the chemical by the Joint FAO/WHO Meeting on Pesticide Residues. It is expressed in milligrams of the chemical per kilogram of body weight.

Responsible Agencies: EPA; USDA/AMS.

U.S. Participation: Yes.

Codex Committee on Methods of Analysis and Sampling

The Codex Committee on Methods of Analysis and Sampling:

(a) Defines the criteria appropriate to Codex Methods of Analysis and Sampling;

(b) Serves as a coordinating body for Codex with other international groups working in methods of analysis and sampling and quality assurance systems for laboratories;

(c) Specifies, on the basis of final recommendations submitted to it by the other bodies referred to in (b) above, Reference Methods of Analysis and Sampling appropriate to Codex Standards which are generally applicable to a number of foods;

(d) Considers, amends, if necessary, and endorses, as appropriate, methods of analysis and sampling proposed by Codex (Commodity) Committees, except that methods of analysis and sampling for residues of pesticides or veterinary drugs in food, the assessment of microbiological quality and safety in food, and the assessment of specifications for food additives do not fall within the terms of reference of this Committee;

(e) Elaborates sampling plans and procedures, as may be required;

(f) Considers specific sampling and analysis problems submitted to it by the Commission or any of its Committees; and

(g) Defines procedures, protocols, guidelines or related texts for the assessment of food laboratory proficiency, as well as quality assurance systems for laboratories.

The 28th Session of the Committee met in Budapest, Hungary, on March 5-9, 2007. The relevant document is ALINORM 07/30/23. For endorsement at the 30th Commission in 2007:

• Proposed Amendment to the Principles for the Establishment of Codex Sampling Procedures (Procedural Manual).

• Endorsement of methods of analysis in Draft Standards and existing standards.

• Reference to IUPA/ISO/AOAC Protocols (amendment to references).

The Committee will continue to work on:

• Draft Guidelines for Evaluating Acceptable Methods of Analysis.

• Draft Guidelines for Settling of Disputes on Analytical (Test) Results.

• Proposed Draft Guideline on Analytical Terminology.

• Conversion of methods for trace elements into criteria.

• Criteria for methods of analysis for foods derived from biotechnology.

• Guidance on measurement uncertainty and uncertainty of sampling.

• Discussion paper on role and terms of reference of CCMAS.

• Discussion paper on the reliability of analytical data.

Responsible Agencies: HHS/FDA; USDA/GIPSA.

U.S. Participation: Yes.

Codex Committee on Food Import and Export Inspection and Certification Systems

The Codex Committee on Food Import and Export Inspection and Certification Systems is charged with developing principles and guidelines for food import and export inspection and certification systems to protect consumers and to facilitate trade. Additionally, the Committee develops principles and guidelines for the application of measures by competent authorities to provide assurance that foods comply with essential requirements, especially statutory health requirements. This encompasses work on equivalence of food inspection systems, including equivalence agreements, processes and procedures to ensure that sanitary measures are implemented; guidelines on food import control systems; and guidelines on food product certification and information exchange. The development of guidelines for the appropriate utilization of quality assurance systems to ensure that foodstuffs conform to requirements and to facilitate trade also are included in the Committee's terms of reference. The Committee met November 6-10, 2006. The reference document is ALINORM 07/30/30. The following will be considered for adoption by the Commission at its 30th Session in July 2007.

To be considered at step ⅝:

• Proposed Draft Guidelines for Generic Official Certificate Formats and the Design, Production, Issuance and use of Certificates.

The committee is continuing work on:

• Proposed Draft Appendix to the Guidelines on the Judgment of Equivalence of Sanitary Measures Associated with Food Inspection and Certification.

• Discussion paper on the reply to the question raised by the 22nd Session of the Codex Committee on General Principles regarding the revision of the Codex Code of Ethics for International Trade of Foods.

• Discussion Paper on the consistency of the draft Model Export Certificate for Milk and Milk Products with the proposed draft Guidelines for Generic Official Certificate Formats and the Design, Production, Issuance and Use of Certificates.

• Discussion Paper identifying areas for guidance for national food inspection systems.

• Discussion Paper on the development of Guidelines for the Conduct of Foreign Audit Team Inspections.

• Discussion Paper on the need of guidance on traceability/product tracing.

Responsible Agencies: HHS/FDA; USDA/FSIS.

U.S. Participation: Yes.

Codex Committee on General Principles

The Codex Committee on General Principles deals with procedure and general matters as are referred to it by the Codex Alimentarius Commission. The 24th Session was held on April 2-6, 2006, in Paris, France. The relevant document is ALINORM 07/30/33. Matters to be considered for adoption by the 29th Commission in July 2007:

• Proposed Draft Working Principles for Risk Analysis for Food Safety (Guidance to National Governments) for adoption at Step ⅝.

• Amendments to the Codex Procedural Manual clarifying the roles of Members elected to the Codex Executive Committee on a geographic basis and Regional Coordinators as members of the Executive Committee.

• Amendments to the Codex Procedural Manual dealing with the revision and amendment of Codex standards.

• Amendments to the General Principles of the Codex Alimentarius.

• Amendments to the Principles Concerning the Participation of International Non-Governmental Organizations in the Work of Codex.

• Risk Analysis Principles Applied by the Committee on Pesticide Residues for inclusion in the Procedural Manual.

• Risk Management Methodologies, including Risk Assessment Policies in the Codex Committee on Residues of Veterinary Drugs in Foods for inclusion in the Procedural Manual.

• Amendment to the Principles for the Establishment or Selection of Codex Sampling Procedures (Codex Procedural Manual).

• Procedure for Consideration of the Entry and Review of Food Additive Provisions in the General Standard for Food Additives for inclusion in the Procedural Manual.

The Committee continued work on:

• Code of Ethics for International Trade in Food (returned to Step 3).

• Consideration of the structure, content and presentation of the Procedural Manual.

• New definitions of risk analysis terms related to food safety.

Responsible Agency: USDA/FSIS.

U.S. Participation: Yes.

Codex Committee on Food Labelling

The Codex Committee on Food Labelling is responsible for drafting provisions on labelling issues assigned by the Codex Alimentarius Commission. The reference document is ALINORM 07/30/22. The Committee held its 35th Session in Ottawa, Canada, on April 30-May 4, 2007. It considered the following items:

• Matters Referred by FAO and WHO: Draft Action Plan for Implementation of the Global Strategy on Diet, Physical Activity and Health.

• Guidelines for the Production, Processing, Labelling and Marketing of Organically Produced Foods Proposed Revised Sections: Annex 2—Table 3 (Other substances); Table 1 (Natural Sodium Nitrate).

• Draft Amendment to the General Standard (Draft Recommendations for the Labelling of Foods obtained through certain techniques of GM/GE): Definitions.

• Report of the Working Group on Labelling of Foods and Food Ingredients Obtained through Certain Techniques of Genetic Modification/Genetic Engineering.

• Proposed Draft Amendment to the General Standard for the Labelling of Prepackaged Foods: Quantitative Declaration of Ingredients.

• Proposed Draft Amendment to the Guidelines for Organically Produced Foods (Addition of Ethylene).

• Proposed Draft Definition of Advertising in relation to nutrition and health claims.

Responsible Agencies: HHS/FDA; USDA/FSIS.

U.S. Participation: Yes.

Codex Committee on Food Hygiene

The Codex Committee on Food Hygiene has four primary responsibilities. First, to draft basic provisions on food hygiene applicable to all food. These provisions normally take the form of Codes of Hygienic Practice for a specific commodity (e.g. bottled water) or group of commodities (e.g., milk and milk products). Second, to suggest and prioritize areas where there is a need for microbiological risk assessment at the international level and to consider microbiological risk management matters in relation to food hygiene and in relation to the risk assessment activities of FAO and WHO. Third, to consider, amend if necessary, and endorse food hygiene provisions that are incorporated into specific Codex commodity standards by the Codex commodity committees. Fourth, to provide such other general guidance to the Commission on matters relating to food hygiene as may be necessary. The 38th Session of the Committee met in Houston, TX, on December 4-8, 2006. The relevant document is ALNORM 07/30/13. The following items will be considered by the Commission at its 30th Session in July 2007.

To be considered at Step 8:

• Draft Guidelines on the Application of the General Principles of Food Hygiene to the Control of Listeria monocytogenes in Ready-to-Eat Foods.

• Draft Code of Hygienic Practice for Eggs and Egg Products.

• Draft Principles and Guidelines for the Conduct of Microbiological Risk Management.

New Work:

• Proposed Draft Guidelines for the Control of Campylobacter and Salmonella spp. in Broiler (Young Bird) Chicken Meat.

• CCHF Risk Analysis Policies.

The committee will continue to work on:

• Proposed Draft Guidelines for Validation of Food Hygienic Control Measures.

• Proposed Draft Code of Hygienic Practice for Powdered Formulae for Infants and Children.

• Endorsement of Hygiene Provisions in Codex Standards and Codes of Practice.

• Annex: Application of Food Safety Metrics in Risk Management Decision Making.

• Annex: Application of Food Safety Metrics in Risk Management Decision Making—Pasteurized Liquid Whole Egg.

• Microbiological Criteria for Listeria monocytogenes in Ready-to-Eat Foods.

Responsible Agencies: HHS/FDA; USDA/FSIS.

U.S. Participation: Yes.

Codex Committee on Fresh Fruits and Vegetables

The Codex Committee on Fresh Fruits and Vegetables is responsible for elaborating world-wide standards and codes of practice for fresh fruits and vegetables. The Committee met in Mexico City, Mexico, on September 25-29, 2006. The relevant document is ALINORM 07/30/35. The following items will be considered by the Commission at its 30th Session in July 2007.

To be considered at Step 8:

• Draft Codex Standard for Table Grapes including proposed draft Sections 2.1.2—Maturity Requirements and 3.1—Minimum Bunch Weight (at Step ⅝).

To be considered at Step 5:

• Proposed draft Codex Standard for Bitter Cassava.

• Proposed draft Guidelines for the Inspection and Certification of Fresh Fruits and Vegetables for Conformity to Quality Standards.

The Committee continues to work on:

• Draft Codex Standard for Tomatoes—Section 3 Provisions concerning sizing.

• Proposed Draft Standard for Apples.

• Standard Layout for Codex Standards for Fresh Fruits and Vegetables.

• Priority List for the Standardization of Fresh Fruits and Vegetables.

Responsible Agencies: USDA/AMS; HHS/FDA.

U.S. Participation: Yes.

Codex Committee on Nutrition and Foods for Special Dietary Uses

The Codex Committee on Nutrition and Foods for Special Dietary Uses (CCNFSDU) is responsible for studying nutritional issues referred by the Codex Alimentarius Commission. The Committee also drafts general provisions, as appropriate, on nutritional aspects of all foods and develops standards, guidelines, or related texts for foods for special dietary uses. The Committee met October 30-November 3, 2006. The relevant document is ALINORM 07/30/26. The following items will be considered by the 30th Session of the Commission in July 2007.

To be adopted at Step 8:

• Draft Revised Codex Standard for Infant Formula and Formulas for Special Medical Purposes Intended for Infants.

To be adopted at Step 5:

• Draft Revised Advisory List of Nutrient Compounds for Use in Foods for Special Dietary Uses Intended for Infants and Young Children.

New Work:

• Application of Risk Analysis to the Work of the CCNFSDU.

The Committee continues work on:

• Draft Revised Standard for Gluten-Free Foods.

• Guidelines for Use of Nutrition Claims—Draft Table of Conditions for Nutrient Content Claims (Part B containing Provisions on Dietary Fibre).

• Proposed Draft Recommendations on the Scientific Basis of Health Claims.

• Discussion Paper on Proposals for Additional or Revised Nutrient Reference Values (NRVs).

Responsible Agencies: HHS/FDA; USDA/ARS.

U.S. Participation: Yes.

Codex Committee on Fish and Fishery Products

The Fish and Fishery Products Committee is responsible for elaborating standards for fresh, frozen and otherwise processed fish, crustaceans and molluscs. The Committee met on September 18-22, 2006. The relevant document is ALINORM 07/30/18. The following items will be considered by the Commission at its 30th Session in July 2007.

To be considered at Step 5/8:

• Proposed Draft Code of Practice for Fish and Fishery Products (Quick Frozen Coated Products, Salted Fish).

To be considered at Step 5:

• Proposed Draft Amendment to the Standard for Canned Sardines and Sardine-Type Products.

• Proposed Draft Code of Practice for Fish and Fishery Products (Live and Raw Bivalve Molluscs, Lobsters and Crabs).

• Proposed Draft Standard for Live and Raw Bivalve Molluscs.

New work:

• Revision of the Procedure for the Inclusion of Additional Species in Standards for Fish and Fishery Products.

• Proposed Draft Standard for Fish Sauce.

• Amendment to the Standard for Quick Frozen Fish Sticks (Fish Fingers), Fish Portions and Fish Fillets—Breaded or in Batter (Nitrogen Factors).

• Proposed Draft Standard for Fresh/Live and Frozen Abalone.

The Committee continues work on the following:

• Proposed Draft Code of Practice for fish and fishery products (other sections).

• Draft Standard for Sturgeon Caviar.

• Proposed Draft Standard for Smoked Fish.

• Proposed Draft Standard for Quick Frozen Scallop Adductor Muscle Meat.

• Proposed Draft Code of Practice for the Processing of Scallop Meat.

Responsible Agencies: HHS/FDA; USDC/NOAA/NMFS.

U.S. Participation: Yes.

Codex Committee on Milk and Milk Products

The Codex Committee on Milk and Milk Products is responsible for establishing international codes and standards for milk and milk products. The Committee will hold its 8th Session in 2008 in New Zealand. The Committee is working on:

• Proposed Draft Model Export Certificate for Milk and Milk Products.

• Proposed Draft Amendment to the Codex Standard for Fermented Milks pertaining to Fermented Milk Drinks.

• Proposed Draft Standard for Processed Cheese.

• Amendment to the List of Additives of the Codex Standard for Creams and Prepared Creams.

• Food Additive Listings for the Codex Standard for Fermented Milks (flavoured fermented milks).

• Methods of Analysis and Sampling for Milk and Milk Products Standards.

• Discussion paper on sampling plans for milk products in presence of significant measurement error.

Responsible Agencies: USDA/AMS; HHS/FDA.

U.S. Participation: Yes.

Codex Committee on Fats and Oils

The Codex Committee on Fats and Oils is responsible for elaborating standards for fats and oils of animal, vegetable, and marine origin. The Committee met February 19-23, 2007. The relevant document is ALINORM 07/30/17. To be considered by the Commission at Step 8:

• Draft Standard for Fat Spreads and Blended Spreads.

New Work:

• Proposed Draft Amendments to the Standard for Named Vegetable Oils: inclusion of palm kernel olein and palm kernel stearin.

The Committee continues work on:

• Draft List of Acceptable Previous Cargoes.

• Proposed Draft List of Acceptable Previous Cargoes.

• Proposed Draft Amendments to the Standard for Named Vegetable Oils: Rice Bran Oil.

• Proposed Draft Amendments to the Standard for Named Vegetable Oils.

• Unbleached palm oil: total carotenoids.

• Proposed Draft Amendment to the Standard for Olive Oils and Olive Pomace Oils: linolenic acid.

Responsible Agencies: HHS/FDA; USDA/ARS.

U.S. Participation: Yes.

Codex Committee on Processed Fruits and Vegetables

The Codex Committee on Processed Fruits and Vegetables is responsible for elaborating standards for Processed Fruits and Vegetables. The Committee met on October 16-21, 2006. The relevant document is ALINORM 07/30/27. The following items will be considered by the Commission at its 30th Session in July 2007.

To be considered at Step 8:

• Draft Codex Standard for Pickled Fruits and Vegetables.

• Draft Codex Standard for Processed Tomato Concentrates.

• Draft Codex Standard for Preserved (Canned) Tomatoes.

• Draft Codex Standards for Certain Canned Citrus Fruits.

To be considered at Step 5:

• Proposed Draft Codex Standard for Jams, Jellies, and Marmalades.

• Proposed Draft Codex Standard for Certain Canned Vegetables.

The Committee continues to work on:

• Annexes to the Proposed Draft Standard for Canned Vegetables and the Guidelines for Packing Media for Canned Vegetables.

• Standard Layout for Processed Fruits and Vegetables, Methods of Analysis for Processed Fruits and Vegetables.

• Priority List for the Standardization of Processed Fruits and Vegetables.

Responsible Agencies: USDA/AMS; HHS/FDA.

U.S. Participation: Yes.

Certain Codex Commodity Committees

Several Codex Alimentarius Commodity Committees have adjourned sine die. The following Committees fall into this category:

• Cocoa Products and Chocolate.

Responsible Agency: HHS/FDA.

U.S. Participation: Yes.

• Meat Hygiene.

Responsible Agency: USDA/FSIS.

U.S. Participation: Yes.

• Natural Mineral Water.

Responsible Agency: HHS/FDA.

U.S. Participation: Yes.

• Sugars.

Responsible Agencies: USDA/ARS; HHS/FDA.

U.S. Participation: Yes.

• Vegetable Proteins.

Responsible Agencies: USDA/ARS; HHS/FDA.

U.S. Participation: Yes.

• Cereals, Pulses and Legumes.

Responsible Agencies: HHS/FDA; USDA/GIPSA.

U.S. Participation: Yes.

Ad hoc Intergovernmental Task Force on Antimicrobial Resistance.

The ad hoc Intergovernmental Task Force on Antimicrobial Resistance was created by the 29th Session of the Commission. The Task Force, hosted by the Republic of Korea, would have a time-frame of four sessions starting with its first meeting scheduled for October 2007. Its objective is to develop science-based guidance to assess the risks to human health associated with the presence in food and feed, including aquaculture, of antimicrobial resistant microorganisms and antimicrobial resistance genes and to develop appropriate risk management advice based on that assessment to reduce such risk. A Circular Letter was issued requesting proposals for new work for the Committee to discuss at its first session.

Ad Hoc Intergovernmental Task Force on Foods Derived from Biotechnology

The Commission established this task force to develop standards, guidelines, or recommendations, as appropriate, for foods derived from biotechnology or traits introduced into foods by biotechnology, on the basis of scientific evidence, risk analysis and having regard, where appropriate, to other legitimate factors relevant to the health of consumers and the promotion of fair trade practices. The Task Force, established by the 23rd Session of the Codex Alimentarius Commission for a four year period of time, completed its work, but was re-established at the 27th Session of the Commission. The relevant document is ALINORM 07/30/34. The Committee will hold its 7th Session in Japan on November 26-30, 2007. The Task Force will discuss the following items:

• Proposed Draft Guideline for the Conduct of Food Safety Assessment of Foods Derived from Recombinant-DNA Animals.

• Proposed Draft Annex to the Guideline for the Conduct of Food Safety Assessment of Foods Derived from Recombinant-DNA Plants: Food Safety Assessment of Foods Derived from Recombinant DNA-Plants Modified for Nutritional or Health Benefits.

• Proposed Draft Annex to the Guideline for the Conduct of Food Safety Assessment of Foods Derived from Recombinant-DNA Plants on Low-Level Presence of Recombinant-DNA Plant Material.

Responsible Agencies: HHS/FDA; USDA/APHIS.

U.S. Participation: Yes.

Ad Hoc Intergovernmental Task Force on the Processing and Handling of Quick Frozen Foods

The Ad hoc Intergovernmental Task Force on the Processing and Handling of Quick Frozen Foods was created by the 29th Session of the Commission to resolve all outstanding issues including the quality and safety provisions of the Code of Practice for the Processing and Handling of Quick Frozen Foods. The Task Force, hosted by Thailand, was given two years to finalize the Code. Thailand and the United States prepared a Circular Letter requesting comments on a revised Code. The resulting document prepared from these comments will serve as the basis for discussion at the Session of the Task Force that will take place in early 2008.

FAO/WHO Regional Coordinating Committees

The Codex Alimentarius Commission is made up of an Executive Committee, as well as approximately 30 subsidiary bodies. Included in these subsidiary bodies are coordinating committees for groups of countries located in proximity to each other who share common concerns. There are currently six Regional Coordinating Committees:

• Coordinating Committee for Africa.

• Coordinating Committee for Asia.

• Coordinating Committee for Europe.

• Coordinating Committee for Latin America and the Caribbean.

• Coordinating Committee for the Near East.

• Coordinating Committee for North America and the South-West Pacific.

The United States participates as an active member of the Coordinating Committee for North America and the South-West Pacific, and is informed of the other coordinating committees through meeting documents, final reports, and representation at meetings. Each regional committee:

• Defines the problems and needs of the region concerning food standards and food control;

• Promotes within the committee contacts for the mutual exchange of information on proposed regulatory initiatives and problems arising from food control and stimulates the strengthening of food control infrastructures;

• Recommends to the Commission the development of world-wide standards for products of interest to the region, including products considered by the committee to have an international market potential in the future; and

• Serves a general coordinating role for the region and performs such other functions as may be entrusted to it by the Commission.

Codex Coordinating Committee for North America and the South-West Pacific

The Coordinating Committee is responsible for defining problems and needs concerning food standards and food control of all Codex member countries of the region. Items on the agenda for the next meeting may include:

• Draft new Strategic Plan for NASWP.

• Report of the Electronic Working Group on Objective 6 of the Strategic Plan for CCNASWP.

• Discussion Paper on the Development of a Standard for Kava.

• Discussion Paper on the Development of a Standard for Nonu (Noni) Products.

• Progress Report: Joint FAO/WHO Evaluation of the Codex Alimentarius and other FAO and WHO Work on Food Standards.

• Evaluation of the effectiveness of the Trust Fund for the participation of developing countries in Codex.

• Nomination of regional coordinator.

Responsible agency: USDA/FSIS.

U.S. Participation: Yes.

Attachment 2

U.S. Codex Alimentarius Officials Codex Committee Chairpersons

Codex Committee on Food Hygiene

Dr. Karen Hulebak, Chief Scientist, Office of Public Health Science, Food Safety and Inspection Service, U.S. Department of Agriculture, 1400 Independence Avenue, SW., Room 3130, South Building, Washington, DC 20250-3700, Phone: (202) 720-5735, Fax: (202) 720-2980, E-mail: karen.hulebak@fsis.usda.gov.

Codex Committee on Processed Fruits and Vegetables

Mr. Terry Bane, Branch Chief, Processed Products Branch, Fruit and Vegetable Programs, AMS, Room 0709, South Building, Stop 9247, 1400 Independence Avenue, SW., Washington, DC 20250-0247, Phone: (202) 720-4693, Fax: (202) 690-1087, E-mail: terry.bane@usda.gov.

Codex Committee on Residues of Veterinary Drugs in Foods

Dr. Stephen F. Sundlof, Director, Center for Veterinary Medicine, Food and Drug Administration, 7500 Standish Place (HFV-1), Rockville, MD 20855, Phone: (301) 827-2950, Fax: (301) 827-8401, E-mail: ssundlof@cvm.fda.gov.

Codex Committee on Cereals, Pulses and Legumes (adjourned sine die)

Mr. Steven N. Tanner, Director, Technical Services Division, Grain Inspection, Packers & Stockyards Administration, U.S. Department of Agriculture, 10383 N. Executive Hills Boulevard, Kansas City, MO 64153-1394, Phone: (816) 891-0401, Fax: (816) 891-0478, E-mail: Stephen.n.tanner@gipsa.usda.gov.

Listing of U.S. Delegates and Alternates Worldwide General Subject Codex Committees

Codex Committee on Residues of Veterinary Drugs in Foods (Host Government—United States)

U.S. Delegate

Steven D. Vaughn, D.V.M., Director, Office of New Animal Drug Evaluation, Center for Veterinary Medicine, FDA, 7500 Standish Place, Rockville, MD 20855, Phone: (301) 827-1796, Fax: (301) 594-2297, E-mail: SVaughn@cvm.fda.gov.

Alternate Delegate

Emilio Esteban, PhD, Director, Western Laboratory, Food Safety and Inspection Service, U.S. Department of Agriculture, 620 Central Avenue, Building 2-A, Alameda, CA 95501, Phone: (510) 337-5031, ext. 3004, Fax: (510) 337-5036, Emilio.Esteban@fsis.usda.gov.

Codex Committee on Food Additives (Host Government—China)

U.S. Delegate

Dennis M. Keefe, PhD, Office of Premarket Approval, Center for Food Safety and Applied Nutrition, FDA (HFS-200), Harvey W. Wiley Federal Building, 5100 Paint Branch Parkway, College Park, MD 20740-3835, Phone: (202) 418-3113, Fax: (202) 418-3131, E-mail: dennis.keefe@fda.hhs.gov.

Alternate Delegate

Susan E. Carberry, PhD, Supervisory Chemist, Division of Petition Review, Office of Food Additive Safety (HFS-265), Center for Food Safety and Applied Nutrition, Food and Drug Administration, 5100 Paint Branch Parkway, College Park, MD 20740, Phone: (301) 436-1269, Fax: (301) 436-2972, E-mail: Susan.Carberry@fda.hhs.gov.

Codex Committee on Contaminants in Foods (Host Government—the Netherlands)

U.S. Delegate

Nega Beru, PhD, Director, Office of Plant and Dairy Foods, (HFS-300), Center for Food Safety and Applied Nutrition, Food and Drug Administration, 5100 Paint Branch Parkway, College Park, MD 20740, Phone: (301) 436-1700, Fax: (301) 436-2651, E-mail: Nega.Beru@fda.hhs.gov.

Alternate Delegate

Kerry Dearfield, PhD, Scientific Advisor for Risk Assessment, Office of Public Health Science, Food Safety and Inspection Service, U.S. Department of Agriculture, 1400 Independence Ave. SW., Room 380, Aerospace Center, Washington, DC 20250, Phone: (202) 690-6451, Fax: (202) 690-6337, E-mail: Kerry.Dearfield@fsis.usda.gov.

Codex Committee on Pesticide Residues (Host Government—China)

U.S. Delegate

Lois Rossi, Director of Registration Division, Office of Pesticide Programs, U.S. Environmental Protection Agency, Ariel Rios Building, 1200 Pennsylvania Avenue, NW., Washington, DC 20460, Phone: (703) 305-5035, Fax: (703) 305-5147, E-mail: rossi.lois@epa.gov.

Alternate Delegate

Robert Epstein, PhD, Associate Deputy Administrator, Science and Technology, Agricultural Marketing Service, USDA, P.O. Box 96456, Room 3522S, Mail Stop 0222, 1400 Independence Avenue, SW., Washington, DC 20090, Phone: (202) 720-2158, Fax: (202) 720-1484, E-mail: robert.epstein@usda.gov.

Codex Committee on Methods of Analysis and Sampling (Host Government—Hungary)

U.S. Delegate

Gregory Diachenko, PhD, Director, Division of Product Manufacture and Use, Office of Premarket Approval, Center for Food Safety and Applied Nutrition (CFSAN), FDA (HFS-300), Harvey W. Wiley Federal Building, 5100 Paint Branch Parkway, College Park, MD 20740-3835, Phone: (301) 436-2387, Fax: (301) 436-2364, E-mail: gregory.diachenko@fda.hhs.gov.

Alternate Delegate

Donald C. Kendall, Technical Services Division, Grain, Inspection, Packers & Stockyards Administration, U.S. Department of Agriculture, 10383 N. Ambassador Drive, Kansas City, MO 64153-1394, Phone: (816) 891-0463, Fax: (816) 891-0478, E-mail: Donnald.C.Kendall@usda.gov.

Codex Committee on Food Import and Export Inspection and Certification Systems (Host Government—Australia)

U.S. Delegate

Catherine Carnevale, D.V.M, Director, International Affairs Staff, Center for Food Safety and Applied Nutrition, FDA (HFS-550), Harvey W. Wiley Federal Building, 5100 Paint Branch Parkway, College Park, MD 20740-3835, Phone: (301) 436-2380, Fax: (301) 436-2612, E-mail: catherine.carnevale@fda.hhs.gov.

Alternate Delegate

Mary Stanley, Director, Office of International Affairs, Food Safety and Inspection Service, U.S. Department of Agriculture, Room 2147-South Building, 1400 Independence Ave. SW., Washington, DC 20250, Phone: (202) 720-0287, Fax: (202) 720-6050, E-mail: Mary.Stanley@fsis.usda.gov.

Codex Committee on General Principles (Host Government—France)

U.S. Delegate

Note: A member of the Steering Committee heads the delegation to meetings of the General Principles Committee.

Codex Committee on Food Labeling (Host Government—Canada)

U.S. Delegate

Barbara O. Schneeman, PhD, Director, Office of Nutritional Products, Labelling and Dietary Uses, Center for Food Safety and Applied Nutrition, FDA, 5100 Paint Branch Parkway (HFS-800), College Park, MD 20740, Phone: (301) 436-2373, Fax: (301) 436-2636, E-mail: barbara.schneeman@fda.hhs.gov.

Alternate Delegate

Robert Post, PhD, Director, Labeling and Consumer Protection Staff, Food Safety and Inspection Service, USDA, 1400 Independence Avenue, SW. (602 Annex), Washington, DC 20250, Phone: (202) 205-0279, Fax: (202) 205-3625, E-mail: Robert.post@fsis.usda.gov.

Codex Committee on Food Hygiene (Host Government—United States)

U.S. Delegate

Robert L. Buchanan, PhD, Lead Scientist, Food Safety Initiative, Center for Food Safety and Applied Nutrition, FDA (HFS-006), Harvey W. Wiley Federal Building, 5100 Paint Branch Parkway, College Park, MD 20740-3835, Phone: (301) 436-2369, Fax: (301) 436-2360, E-mail: robert.buchanan@fda.hhs.gov.

Alternate Delegates

Daniel Engeljohn, PhD, Deputy Assistant Administrator, Office of Policy, Program, and Employee Development, Food Safety and Inspection Service, USDA, Room 350-E, Jamie L. Whitten Building, 1400 Independence Avenue, SW., Washington, DC 20250, Phone: (202) 205-0495, Fax: (202) 401-1760, E-mail: daniel.engeljohn@fsis.usda.gov.

Rebecca Buckner, PhD, Consumer Safety Officer, Center for Food Safety and Applied Nutrition, FDA, Room 3B-0033, Harvey Wiley Building, 5100 Paint Branch Parkway, College Park, MD 10740, Phone: (301) 436-1486, Fax: (301) 436-2632, E-mail: rebecca.buckner@fda.hhs.gov.

Codex Committee on Nutrition and Food for Special Dietary Uses (Host Government—Germany)

U.S. Delegate

Barbara O. Schneeman, PhD, Director, Office of Nutritional Products, Labeling and Dietary Supplements, Center for Food Safety and Applied Nutrition, FDA, 5100 Paint Branch Highway (HFS-800), College Park, MD 20740, Phone: (301) 436-2373, Fax: (301) 436-2636, E-mail: barbara.schneeman@fda.hhs.gov.

Alternate Delegate

Allison Yates, PhD, Director, Beltsville Human Nutrition Research Center, Agricultural Research Service, U.S. Department of Agriculture, 10300 Baltimore Avenue, Bldg 307C, Room 117, Beltsville, MD 20705, Phone: (301) 504-8157, Fax: (301) 504-9381, E-mail: Allison.Yates@ars.usda.gov.

Worldwide Commodity Codex Committees Codex Committee on Fresh Fruits and Vegetables (Host Government—Mexico)

U.S. Delegate

Dorian LaFond, International Standards Coordinator, Fruit and Vegetables Program, Agricultural Marketing Service, USDA, Room 2086, South Building, 1400 Independence Avenue, SW., Washington, DC 20250, Phone: (202) 690-4944, Fax: (202) 720-4722, E-mail: dorian.lafond@usda.gov.

Alternate Delegate

Michelle Smith, PhD, Interdisciplinary Scientist, Office of Plant and Dairy Foods, Center for Food Safety and Applied Nutrition, Food and Drug Administration (HFS-306), Harvey W. Wiley Federal Building, 5100 Paint Branch Parkway, College Park, MD 20740-3835, Phone: (301) 436-2024, Fax: (301) 436-2651, E-mail: Michelle.Smith@fda.hhs.gov.

Codex Committee on Fish and Fishery Products (Host Government—Norway)

U.S. Delegate

Donald Kraemer, Acting Director, Office of Seafood, Center for Food Safety and Applied Nutrition, Food and Drug Administration, Harvey W. Wiley Federal Building, 5100 Paint Branch Parkway, College Park, MD 20740-3835, Phone: (301) 436-2300, Fax: (301) 436-2599, E-mail: donald.kraemer@fda.hhs.gov.

Alternate Delegate

Timothy Hansen, Director, Seafood Inspection Program, National Oceanic and Atmospheric Administration, Department of Commerce, Room 10837, 1315 East West Highway, Silver Spring, MD 20910, Phone: (301) 713-2355, Fax: (301) 713-1081 E-mail: Timothy.Hansen@noaa.gov.

Codex Committee on Cereals, Pulses and Legumes (Host Government—United States)

U.S. Delegate

Henry Kim, PhD, Supervisory Chemist, Division of Plant Product Safety, Office of Plant and Dairy Foods, Center for Food Safety and Applied Nutrition, FDA, 5100 Paint Branch Parkway, College Park, MD 20740, Phone: (301) 436-2023, Fax: (301) 436-2651, E-mail: henry.kim@fda.hhs.gov.

Codex Committee on Milk and Milk Products (Host Government—New Zealand)

U.S. Delegate

Duane Spomer, Food Defense Advisor, Agricultural Marketing Service, U.S. Department of Agriculture, Room 2750, South Building, 1400 Independence Ave., SW., Washington, DC 20250, Phone: (202) 720-1861, Fax: (202) 205-5772, E-mail: duane.spomer@usda.gov.

Alternate Delegate

John F. Sheehan, Director, Division of Dairy and Egg Safety, Office of Plant and Dairy Foods and Beverages, Center for Food Safety and Applied Nutrition, FDA (HFS-306), Harvey W. Wiley Federal Building, 5100 Paint Branch Parkway, College Park, MD 20740, Phone: (301) 436-1488, Fax: (301) 436-2632, E-mail: john.sheehan@fda.hhs.gov.

Codex Committee on Fats and Oils (Host Government—United Kingdom)

U.S. Delegate

Dennis M. Keefe, PhD, Office of Food Additive Safety, Center for Food Safety and Applied Nutrition, FDA (HFS-200), Harvey W. Wiley Federal Building, 5100 Paint Branch Parkway, College Park, MD 20740-3835, Phone: (301) 436-1284, Fax: (301) 436-2972, E-mail: dennis.keefe@fda.hhs.gov.

Alternate Delegate

Kathleen Warner, Agricultural Research Service, USDA, 1815 N. University Street, Peoria, IL 61604, Phone: (309) 681-6584, Fax: (309) 681-6668, E-mail: warnerk@ncaur.usda.gov.

Codex Committee on Cocoa Products and Chocolate (Host Government—Switzerland)

U.S. Delegate

Michelle Smith, PhD, Food Technologist, Office of Plant and Dairy Foods and Beverages, Center for Food Safety and Applied Nutrition, FDA (HFS-306), Harvey W. Wiley Federal Building, 5100 Paint Branch Parkway, College Park, MD 20740-3835, Phone: (301) 436-2024, Fax: (301) 436-2651, E-mail: michelle.smith@fda.hhs.gov.

Codex Committee on Sugars (Host Government—United Kingdom)

U.S. Delegate

Martin Stutsman, J.D., Office of Plant and Dairy Foods and Beverages, Center for Food Safety and Applied Nutrition, FDA (HFS-306), Harvey W. Wiley Federal Building, 5100 Paint Branch Parkway, College Park, MD 20740-3835, Phone: (301) 436-1642, Fax: (301) 436-2651, E-mail: martin.stutsman@fda.hhs.gov.

Codex Committee on Processed Fruits and Vegetables (Host Government—United States)

U.S. Delegate

Dorian LaFond, International Standards Coordinator, Fruit and Vegetable Division, Agricultural Marketing Service, USDA, Room 2086, South Building, 1400 Independence Avenue, SW., Washington, DC 20250, Phone: (202) 690-4944, Fax: (202) 720-0016, E-mail: dorian.lafond@usda.gov.

Alternate Delegate

Paul South, PhD, Division of Plant Product Safety, Office of Plant and Dairy Foods, Center for Food Safety and Applied Nutrition, FDA, 5100 Paint Branch Parkway, College Park, MD 20740, Phone: (301) 436-1640, Fax: (301) 436-2561, E-mail: paul.south@fda.hhs.gov.

Codex Committee on Vegetable Proteins (Host Government—Canada)

U.S. Delegate

Dr. Wilda H. Martinez, Area Director, ARS North Atlantic Area, Agricultural Research Service, USDA, 600 E. Mermaid Lane, Wyndmoor, PA 19038, Phone: (215) 233-6593, Fax: (215) 233-6719, E-mail: wmartinez@ars.usda.gov.

Codex Committee on Meat Hygiene (Host Government—New Zealand)

U.S. Delegate

Perfecto Santiago, D.V.M., Deputy Assistant Administrator, Office of Food Security and Emergency Preparedness, Room 3130, South Building, Food Safety and Inspection Service, USDA, 1400 Independence Avenue, SW., Washington, DC 20250, Phone: (202) 205-0452, Fax: (202) 690-5634, E-mail: perfecto.santiago@fsis.usda.gov.

Codex Committee on Natural Mineral Waters (Host Government—Switzerland)

U.S. Delegate

Lauren Robin, PhD, Review Chemist, Office of Plant and Dairy Foods, Center for Food Safety and Applied Nutrition, Food and Drug Administration, Harvey W. Wiley Federal Building, 5100 Paint Branch Parkway, College Park, MD 20740-3835, Phone: (301) 436-1639, Fax: (301) 436-2651, E-mail: Lauren.Robin@fda.hhs.gov.

Ad Hoc Intergovernmental Task Forces

Ad Hoc Intergovernmental Task Force on Foods Derived From Modern Biotechnology (Host Government—Japan)

U.S. Delegate

Eric Flamm, PhD, Senior Advisor, Office of the Commissioner, Food and Drug Administration, Room 1561, Parklawn Building, Rockville, MD 20857, Phone: (301) 827-0591, Fax: (301) 827-4774, E-mail: EFLAMM@OC.FDA.GOV.

Alternate Delegate

Cindy Smith, Deputy Administrator, Biotechnology Regulatory Services, Animal and Plant Health Inspection Service, U.S. Department of Agriculture, Unit 98 Ste. 5B05, 4700 River Road, Riverdale, MD 20737, Phone: (301) 734-7324, Fax: (301) 734-6352, E-mail: Cindy.J.Smith@aphis.usda.gov.

Ad Hoc Intergovernmental Task Force on Antimicrobial Resistance (Host Government—Republic of Korea)

Delegate

David G. White, D.V.M., Director, National Antimicrobial Resistance Monitoring System (NARMS), U.S. Food and Drug Administration, Center for Veterinary Medicine, Office of Research, 8401 Muirkirk Rd., Laurel, MD 20708, Phone: (301) 210-4181, Fax: (301) 210-4685, E-mail: David.White@fda.hhs.gov.

Alternate Delegate

Neena Anandaraman, D.V.M., Veterinary Medical Officer, Zoonotic Diseases & Residue Surveillance Division, Office of Public Health Science, Food Safety and Inspection Service, U.S. Department of Agriculture, Room 343, Aerospace Center, Washington, DC 20250, Phone: (202) 690-6429, Fax: (202) 690-6565, E-mail: neena.anandaraman@fsis.usda.gov.

Ad Hoc Intergovernmental Task Force on Quick Frozen Foods (Host Government—Thailand)

Delegate

Donald Zink, Ph.D., Senior Scientist, Office of Plant and Dairy Foods,

Center for Food Safety and Applied Nutrition, Food and Drug Administration (HFS-302), Harvey W. Wiley Federal Building, 5100 Paint Branch Parkway, College Park, MD 20740-3835, Phone: (301) 436-1692, Fax: (301) 436-2632, E-mail: Donald.Zink@fda.hhs.gov.

There are six regional coordinating committees:

Coordinating Committee for Africa.

Coordinating Committee for Asia.

Coordinating Committee for Europe.

Coordinating Committee for Latin America and the Caribbean.

Coordinating Committee for the Near East.

Coordinating Committee for North America and the South-West Pacific.

Contact

Paulo Almeida, Associate Manager for Codex, U.S. Codex Office, Food Safety and Inspection Service, Room 4861, South Building, 1400 Independence Avenue, SW., Washington, DC 20250-3700, Phone: (202) 205-7760, Fax: (202) 720-3157, E-mail: paulo.almeida@fsis.usda.gov.

[FR Doc. E7-10327 Filed 6-1-07; 8:45 am]

BILLING CODE 3410-DM-P